DEPARTMENT OF ENERGY

Federal Energy Regulatory Commission

Combined Notice of Filings #1

Take notice that the Commission received the following electric corporate filings:

Docket Numbers: EC16-163-000.

Applicants: Bucksport Mill LLC, Bucksport Generation LLC.

Description: Application under FPA Section 203 for Authorization of Intracorporate Transfer of Jurisdictional Assets, et al. of Bucksport Mill LLC.

Filed Date: 8/5/16.

Accession Number: 20160805-5244.

Comments Due: 5 p.m. ET 8/26/16.

Take notice that the Commission received the following exempt wholesale generator filings:

Docket Numbers: EG16-132-000.

Applicants: Desert Wind Farm LLC.

Description: Notice of Self-Certification of Exempt Wholesale Generator Status of Desert Wind Farm LLC.

Filed Date: 8/8/16.

Accession Number: 20160808-5129.

Comments Due: 5 p.m. ET 8/29/16.

Docket Numbers: EG16-133-000.

Applicants: Innovative Solar 31, LLC.

Description: Notice of Self-Certification of Exempt Wholesale Generator Status of Innovative Solar 31, LLC.

Filed Date: 8/8/16.

Accession Number: 20160808-5185.

Comments Due: 5 p.m. ET 8/29/16.

Take notice that the Commission received the following electric rate filings:

Docket Numbers: ER16-1649-005.

Applicants: California Independent System Operator Corporation.

Description: Compliance filing: 2016-08-05 Petition for Extension of Ltd Tariff Waiver to Suspend Effective Date to be effective N/A.

Filed Date: 8/5/16.

Accession Number: 20160805-5192.

Comments Due: 5 p.m. ET 8/26/16.

Docket Numbers: ER16-2372-001.

Applicants: ITC Midwest LLC.

Description: Tariff Amendment: Errata to Filing of Master Joint Use Pole Agreement to be effective 10/4/2016.

Filed Date: 8/8/16.

Accession Number: 20160808-5154.

Comments Due: 5 p.m. ET 8/29/16.

Docket Numbers: ER16-2387-000.

Applicants: Bounce Energy NY, LLC.

Description: Tariff Cancellation: Cancellation to be effective 8/31/2016.

Filed Date: 8/5/16.

Accession Number: 20160805-5197.

Comments Due: 5 p.m. ET 8/26/16.

Docket Numbers: ER16-2388-000.

Applicants: ITC Midwest LLC.

Description: § 205(d) Rate Filing: Filing of Notice of Termination of ITC Midwest RS 139 to be effective 7/15/2016.

Filed Date: 8/8/16.

Accession Number: 20160808-5146.

Comments Due: 5 p.m. ET 8/29/16.

Docket Numbers: ER16-2389-000.

Applicants: Southern California Edison Company.

Description: § 205(d) Rate Filing: First Amended CLGIA and First Amended Svc Agmt for Windhub Solar Project to be effective 8/9/2016.

Filed Date: 8/8/16.

Accession Number: 20160808-5150.

Comments Due: 5 p.m. ET 8/29/16.

Docket Numbers: ER16-2390-000.

Applicants: Midcontinent Independent System Operator, Inc.

Description: § 205(d) Rate Filing: 2016-08-08 SA 2933 ITCTransmission-Michigan Wind 3 GIA (J321) to be effective 8/9/2016.

Filed Date: 8/8/16.

Accession Number: 20160808-5152.

Comments Due: 5 p.m. ET 8/29/16.

Docket Numbers: ER16-2391-000.

Applicants: ANP Marketing Company.

Description: Notice of Cancellation of ANP Marketing Company.

Filed Date: 8/8/16.

Accession Number: 20160808-5181.

Comments Due: 5 p.m. ET 8/29/16.

Docket Numbers: ER16-2392-000.

Applicants: Sierra Pacific Power Company.

Description: § 205(d) Rate Filing: Rate Schedule No. 69—Concurrence SPPC RS 69 to SCE RS 310 to be effective 8/5/2016.

Filed Date: 8/8/16.

Accession Number: 20160808-5190.

Comments Due: 5 p.m. ET 8/29/16.

Docket Numbers: ER16-2393-000.

Applicants: Innovative Solar 31, LLC.

Description: Baseline eTariff Filing: Innovative Solar 31, LLC MBR Tariff to be effective 8/9/2016.

Filed Date: 8/8/16.

Accession Number: 20160808-5195.

Comments Due: 5 p.m. ET 8/29/16.

Take notice that the Commission received the following electric securities filings:

Docket Numbers: ES16-46-000.

Applicants: Community Wind North, LLC.

Description: Request for Waivers and Blanket Authorization.

Filed Date: 7/22/16.

Accession Number: 20160722-5206.

Comments Due: 5 p.m. ET 8/12/16.

Docket Numbers: ES16-50-000.

Applicants: Southwest Power Pool, Inc.

Description: Application of Southwest Power Pool, Inc. Under Section 204 of the Federal Power Act for an Order Authorizing the Issuance of Securities.

Filed Date: 8/5/16.

Accession Number: 20160805-5217.

Comments Due: 5 p.m. ET 8/26/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 8, 2016.
Nathaniel J. Davis, Sr.,
Deputy Secretary.

[FR Doc. 2016-19327 Filed 8-12-16; 8:45 am]

BILLING CODE 6717-01-P